DEPARTMENT OF THE TREASURY

Federal Law Enforcement Training Center

FLETC Cheltenham, MD; Notice of Intent

AGENCY: Federal Law Enforcement Training Center, Treasury.

ACTION: Notice of intent to hold public meeting and prepare an environmental assessment.

SUMMARY: Notice is hereby given that the Federal Law Enforcement Training Center (FLETC), pursuant to the National Environmental Policy Act of 1969 (NEPA), the Council on Environmental Quality Regulations for Implementing the National Environmental Policy Act (40 CFR parts 1500-1508), and Department of the Treasury Directive 75-02 (Department of the Treasury Environmental Quality Program), proposes to prepare an Environmental Assessment related to the renovation of the former Naval Communications Detachment Cheltenham, MD to provide a law enforcement requalification training facility for use by a wide variety of federal, state, and local agencies located in the metropolitan Washington, DC area. The proposed action includes renovation and demolition of existing buildings for use as classrooms, simulators, locker facilities, storage, etc., and construction of a free-standing, completely enclosed, environmentally safe indoor firearms training range and an outdoor vehicle training range. Vegetation manipulation will occur for aesthetic purposes, wildlife habitat improvement, wildfire hazard control, and insect/disease reduction.

Meeting Information: Public participation in the scoping process will be an integral part of this project. During the scoping process the FLETC will seek information, comments, and guidance from agencies and the public that may be interested in, or affected by, this project. The scoping process will include: (a) Identification of potential issues; (b) identification of issues to be analyzed in depth; (c) elimination of insignificant issues; (d) identifying potential environmental effects; (e) exploring potential alternatives; and (f) determining potential cooperating agencies. The FLETC will conduct a meeting associated with the scoping of the assessment of potential significant environmental impacts related to the project. The meeting will be advertised in a newspaper in general circulation in the project area. The meeting will be open to the interested public, and federal, state, and local government agencies, and will be held on October 24, 2001 from 7 p.m. until 8:30 p.m. at Colony South Hotel and Conference Center, located at 7401 Surratts Road Clinton, MD 20735. The public and agencies are invited to participate in the planning and analysis of the proposed project. Representatives of the FLETC and its consultants will be available at the meeting to discuss the FLETC's environmental review process, describe the project and alternatives under consideration, discuss the scope of environmental issues to be considered in accordance with the requirements of NEPA, answer questions and written comments.

DATES: Written comments will be accepted until November 23, 2001.

ADDRESSES: Send comments to: FLETC Cheltenham Facility, 9000 Commo Road, Cheltenham, MD 20623-5000.

FOR FURTHER INFORMATION CONTACT: Susan Shaw, NEPA Coordinator/Project Manager, FLETC, at (912) 261-4557. Ms. Shaw's e-mail address is sshaw@fletc.treas.gov. Information is also available from Bob Smith, Chief, Cheltenham Operations at (301) 868-5830. Mr. Smith's e-mail address is rsmith@fletc.treas.gov.

SUPPLEMENTARY INFORMATION: The Federal Law Enforcement Training Center has a mission of providing high quality, cost-effective training of federal law enforcement personnel. The FLETC proposes with this action to provide requalification training services in the Washington, DC area by renovating the former Naval Communications Detachment Cheltenham, MD facility which has been inactive since 1998. Providing these requalification services in the Washington, DC area will eliminate the need for using agencies to travel to the FLETC's Glynco, GA facility, reducing associated costs and time demands.

The FLETC Cheltenham facility is located approximately 15 miles southeast of Washington, DC, in Prince George's County, MD. The project site is situated east of Maryland Route 5 and west of Maryland Route 301, approximately 3 miles south of Andrews Air Force Base.

Alternatives considered by the FLETC include: (a) No action-continuation of services at Glynco, GA; (b) Site locations other than Cheltenham, MD in the metropolitan Washington, DC area; (c) Proposed action at the Cheltenham, Md location, including alternative facility arrangements on this site.

Based on the input received at the public meeting, and ongoing contact and involvement of the interested agencies and the public, the FLETC will prepare a Draft Environmental Assessment addressing the significance of the project and its impacts for public review and comment. Distribution and placement of this document in publicly-accessible places such as libraries and governmental offices will occur. A Final Environmental Assessment will be prepared considering the comments from agencies and the public received following the review period for the draft document.

Should the FLETC determine, based on the information presented in the Final Environmental Assessment for the project, that the impacts of the renovation/demolition, construction, and operation of the facility will not have a significant environmental impact, it will prepare a Finding of No Significant Impacts (FONSI) for publication in the Federal Register and in a newspaper in general circulation at the project location. Should significant environmental impacts be determined to exist due to the project, the FLETC will proceed with the preparation of an Environmental Impact Statement, per the requirements of NEPA, the Council on Environmental Quality, and its own environmental policies and procedures.

Authority: The Council on Environmental Quality's National Environmental Policy Act, 40 CFR parts 1500 et seq.

Dated: October 5, 2001.
Bruce Bowen,
Assistant Director, Office of Compliance, Federal Law Enforcement Training Center.

[FR Doc. 01-25853 Filed 10-12-01; 8:45 am]

BILLING CODE 4810-32-P